DEPARTMENT OF TRANSPORTATION

National Highway Traffic Safety Administration

[Docket No. NHTSA-2011-0062; Notice 1]

Notice of Receipt of Petition for Decision That Nonconforming 2008-2010 M&V GmbH Siegmar Fzb Trailers Are Eligible for Importation

AGENCY: National Highway Traffic Safety Administration, DOT.

ACTION: Notice of receipt of petition for decision that nonconforming 2008-2010 M&V GmbH Siegmar Fzb trailers are eligible for importation.

SUMMARY: This document announces receipt by the National Highway Traffic Safety Administration (NHTSA) of a petition for a decision that 2008-2010 M&V GmbH Siegmar Fzb trailers that were not originally manufactured to comply with all applicable Federal Motor Vehicle Safety Standards (FMVSS) are eligible for importation into the United States because they have safety features that comply with, or are capable of being altered to comply with, all such standards.

DATES: The closing date for comments on the petition is July 5, 2011.

ADDRESSES: Comments should refer to the docket and notice numbers above and be submitted by any of the following methods:

• Federal eRulemaking Portal: Go to http://www.regulations.gov. Follow the online instructions for submitting comments.

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251

Instructions: Comments must be written in the English language, and be no greater than 15 pages in length, although there is no limit to the length of necessary attachments to the comments. If comments are submitted in hard copy form, please ensure that two copies are provided. If you wish to receive confirmation that your comments were received, please enclose a stamped, self-addressed postcard with the comments. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

How to Read Comments submitted to the Docket: You may read the comments received by Docket Management at the address and times given above. You may also view the documents from the Internet at http://www.regulations.gov. Follow the online instructions for accessing the dockets. The docket ID number and title of this notice are shown at the heading of this document notice. Please note that even after the comment closing date, we will continue to file relevant information in the Docket as it becomes available. Further, some people may submit late comments. Accordingly, we recommend that you periodically search the Docket for new material.

FOR FURTHER INFORMATION CONTACT: Coleman Sachs, Office of Vehicle Safety Compliance, NHTSA (202-366-3151).

SUPPLEMENTARY INFORMATION:

Background

Under 49 U.S.C. 30141(a)(1)(B), a motor vehicle that was not originally manufactured to conform to all applicable FMVSS, and has no substantially similar U.S.-certified counterpart, shall be refused admission into the United States unless NHTSA has decided that the motor vehicle has safety features that comply with, or are capable of being altered to comply with, all applicable FMVSS based on destructive test data or such other evidence as NHTSA decides to be adequate.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Auto Enterprises of Birmingham, Michigan (Registered Importer 93-013) has petitioned NHTSA to decide whether 2008-2010 M&V GmbH Siegmar Fzb trailers that were not originally manufactured to conform to all applicable FMVSS are eligible for importation into the United States. Auto Enterprises contends that these vehicles are eligible for importation under 49 U.S.C. 30141(a)(1)(B) because they have safety features that comply with, or are capable of being altered to comply with, all applicable FMVSS. Auto Enterprises submitted information with its petition intended to demonstrate that 2008-2010 M&V GmbH Siegmar Fzb trailers are capable of being modified to comply with all applicable standards.

Specifically, the petitioner claims that 2008-2010 M&V GmbH Siegmar Fzb trailers have safety features that comply with Standard Nos. 106 Brake Hoses, 119 New Pneumatic Tires for Motor Vehicles with a GVWR of more than 4,536 Kilograms (10,000 Pounds) and Motorcycles, and 224 Rear Impact Protection.

The petitioner also contends that 2008-2010 M&V GmbH Siegmar Fzb trailers are capable of being altered to meet the following standards, in the manner indicated:

Standard No. 108 Lamps, Reflective Devices and Associated Equipment: conversion of the lighting power, control, and wiring systems from the original 24 volt system to a 12 volt system and installation of U.S.-conforming; front and rear clearance lamps; front, rear, and intermediate side marker lamps; rear identification lamps; taillamps; stop lamps; rear turn signal lamps; license plate lamps; and conspicuity treatment to achieve compliance with the standard.

Standard No. 109 New Pneumatic Tires for Vehicles Other than Passenger Cars: inspection of all vehicles and replacement of any nonconforming tires with ones that meet the standard.

Standard No. 110 Tire Selection and Rims for Motor Vehicles Other than Passenger Cars: Installation of conforming rims and a tire information placard to achieve compliance with the standard.

Standard No. 121 Air brake systems: The ABS braking diagnostic system must be converted from the original European configuration (which is fitted to the tractor unit) to a US complying system (fitted to the trailer). In addition, the original European EBS system will be removed and replaced with a RSSplus Trailer ABS with Roll Stability Support system manufactured by Meritor Wabco. With respect to compliance with the requirements of paragraphs S5.3.3 and S5.3.4 of FMVSS No. 121, petitioner states that brake actuation and release times can be verified by using the WabcoMeritor “ToolBox” diagnostics system. The petitioner also states that the existing ABS malfunction sensor and indicator lamp are located as required by paragraphs S5.2.3.2 and S5.2.3.3 of FMVSS No. 121.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: May 26, 2011.
Claude H. Harris,
Director, Office of Vehicle Safety Compliance.

[FR Doc. 2011-13691 Filed 6-1-11; 8:45 am]

BILLING CODE 4910-59-P